DEPARTMENT OF LABOR

Employment and Training Administration

Investigations Regarding Certifications of Eligibility to Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 27, 2001.

Interested persons are invited to submit written comments regarding the subject matter of the investigations to the Director, Division of Trade Adjustment Assistance, at the address shown below, not later than August 27, 2001.

The petitions filed in this case are available for inspection at the Office of the Director, Division of Trade Adjustment Assistance, Employment and Training Administration, U.S. Department of Labor, Room C-5311, 200 Constitution Avenue, NW., Washington, DC 20210.

Signed at Washington, DC this 2nd day of July, 2001.
Edward A. Tomchick,
Director, Division of Trade Adjustment Assistance.

Appendix

Petitions Instituted on 07/02/2001
TA-W | Subject firm (petitioners) | Location | Date of petition | Product(s)
39,516 | Loogootee Manufacturing (Wkrs) | Loogootee, IN | 06/05/2001 | Cord sets.
39,517 | Spectrum Control (Wkrs) | Erie, PA | 06/12/2001 | 0-Subs Assembly.
39,518 | Spartan International (Wkrs) | Spartanburg, SC | 05/14/2001 | Woven Fabrics.
39,519 | FCI Electronics (Wkrs) | Mt. Union, PA | 04/21/2001 | Control Cables for Telephones.
39,520 | Nokia, Inc. (Wkrs) | Irving, TX | 06/15/2001 | Mobile Phones.
39,521 | Kleinert's Inc. of Alabama (Co.) | Elba, AL | 06/15/2001 | Children's Playwear and Sleepwear.
39,522 | JLG Industries (Wkrs) | McConnellsburg, PA | 06/19/2001 | Aerial Work Platform—Scissor Lifts.
39,523 | Minnesota Twist Drill (Wkrs) | Chilsholm, MN | 06/19/2001 | Drill Bits.
39,524 | Tex Tech (Co.) | Tempe, AZ | 06/21/2001 | Tennis Felt Coverings.
39,525 | Maxxim Medical (Wkrs) | Eaton, OH | 05/01/2001 | Medical Exam Gloves.
39,526 | CTS Reeves Frequency (Co.) | Carlisle, PA | 06/18/2001 | Crystal Oscillators.
39,527 | International Wire Group (Co.) | Camden, NY | 06/15/2001 | Coated Copper Wire.
39,528 | Fessler Machine (USWA) | Sharon, PA | 06/14/2001 | Gear Boxes.
39,529 | Quaker Oats Co. (RWDSU) | St. Joseph, MO | 06/14/2001 | Pancake Mix and Cereals.
39,530 | Facemate Corp. (Co.) | Collierville, TN | 06/15/2001 | Garment Linings.
39,531 | Bill Levkoff (UNITE) | New York City, NY | 06/21/2001 | Ladies' Dresses.
39,532 | Power Conversion Products (Co.) | Crystal Lake, IL | 05/31/2001 | Power Supplies.
39,533 | FCI Electronics (Wkrs) | Mount Union, PA | 06/19/2001 | Cables—Audio and Video.
39,534 | Robert Bosch Corp. (UAW) | Ashland, OH | 06/14/2001 | Complete Braking Systems.
39,535 | Computer Sciences Corp. (Co.) | Charleston, SC | 06/20/2001 | Provide Technical Support.
39,536 | Georgia Pacific (AMPPW) | Bellingham, WA | 06/15/2001 | Pulp and Chemicals.
39,537 | Red Wing Shoe (Wkrs) | Danville, KY | 06/08/2001 | Work Boots.
39,538 | Rich Products Corp. (Wkrs) | Winchester, VA | 06/15/2001 | Frozen Dough Products.
39,539 | Mission Valley Fabrics (Wkrs) | New Braunfels, TX | 06/14/2001 | Woven Yarn.
39,540 | Oxford Automotive (Wkrs) | Masury, OH | 06/13/2001 | Front End Suspension Parts.
39,541 | Signature Software (Wkrs) | Hood River, OR | 05/29/2001 | Custom Handwritten Fonts.
39,542 | Calvmet Lubricants (PACE) | Rouseville, PA | 06/18/2001 | Petroleum Waxes.
39,543 | Tyco Electronics (Wkrs) | Menlo Park, CA | 06/10/2001 | Fiber Optic Components.
39,544 | American Apparel (Wkrs) | Lena, MS | 06/11/2001 | Knit Shirts.
39,545 | Invensys, Inc. (Co.) | Foxboro, MA | 06/04/2001 | Printed Circuit Boards.
39,546 | Revere Copper Products (UAW) | Rome, NY | 06/15/2001 | Copper and Copper Alloy Mill Products.
39,547 | Ross Simmons Hardwood (Wkrs) | Longview, WA | 06/12/2001 | Hardwood Lumber.
39,548 | Plystar (Wkrs) | Columbus, GA | 06/13/2001 | Vacuum Seal Bags (Foodsaver).
39,549 | Chicago Miniature Lamps (Wkrs) | Wynnewood, OK | 06/11/2001 | Miniature Lamps.
39,550 | Passo Prossing LLC (Wkrs) | Bartow, FL | 05/25/2001 | Juice.
39,551 | Rohm and Haas (PACE) | Paterson, NJ | 06/13/2001 | Industrial Dyes.
39,552 | HS Industries (Wkrs) | Independence, WI | 06/08/2001 | Camouflage Headnets.
39,553 | National Textiles (Co.) | Gaffney, SC | 06/20/2001 | Knit, Dye, & Finished Fabrics.
39,554 | Nova Dye and Print (Wkrs) | Waterbury, CT | 06/11/2001 | Dyeing and Finishing Materials.
39,555 | Wilson Freight Associates (Co.) | Van Buren, AR | 06/12/2001 | Truck Hauling—Steel Machinery, Lumber.
39,556 | Ademco Group (Wkrs) | Syosset, NY | 06/14/2001 | Alarm Systems.
39,557 | D.V. and P., Inc. (Wkrs) | New York, NY | 05/18/2001 | Distribution Services for Garments.
39,558 | Phantom Glendale (Wkrs) | W. Wilkesboro, NC | 06/20/2001 | Ladies' Intimate Apparel.
39,559 | DeLong Sportswear (Wkrs) | Jefferson, OR | 06/15/2001 | Woven Wool Fabric.
39,560 | ISB Fashion, Inc. (Wkrs) | New York, NY | 06/21/2001 | Dresses.
39,561 | 411 Warehouse Corp. (Co.) | Madisonville, TN | 06/21/2001 | Ladies Outerwear.
39,562 | ADC Mersum US, Inc. (Co.) | S. Hackensack, NJ | 06/13/2001 | DSXpert Remote Access Equipment.
39,563 | Excaliber Tublar (Wkrs) | Benwood, WV | 06/15/2001 | Steel Tubing.
39,564 | Moding Aftermarket (Wkrs) | Merced, CA | 06/21/2001 | Aftermarket Radiators.
39,565 | Thomaston Mills (Co.) | Thomaston, GA | 06/20/2001 | Sheets, Pillowcases and Comforters.
39,566 | Louisiana Pacific (Wkrs) | Rogue River, OR | 06/12/2001 | Veneer.
39,567 | Guardian Insurance (Wkrs) | Lehigh Valley, PA | 06/15/2001 | Software Support.
39,568 | Alcatel Submarine Network (Co.) | Portland, OR | 06/19/2001 | Fiber Optic Cable.
39,569 | Alamac Knit Fabrics (Co.) | Clinton, NC | 06/20/2001 | Knit Fabric.
39,570 | Tyrolit North America (UAW) | Westboro, MA | 06/15/2001 | Grinding Wheels.

[FR Doc. 01-20537 Filed 8-14-01; 8:45 am]

BILLING CODE 4510-30-M